DEPARTMENT OF THE INTERIOR

National Park Service

Publication of the New U.S. World Heritage Tentative List: 15-Day Notice of Opportunity for Public Comment on Proposed Initial U.S. Nominations to the World Heritage List

AGENCY: Department of the Interior, National Park Service.

ACTION: Notice and request for comments.

SUMMARY: This notice constitutes the official publication of the new U.S. World Heritage Tentative List and provides a First Notice for the public to comment on proposed initial U.S. nominations from the new Tentative List to the UNESCO World Heritage List. This notice complies with Sec. 73.7(c) of the World Heritage Program regulations (36 CFR part 73).

The new Tentative List (formerly referred to as the Indicative Inventory) appears at the end of this notice. The Tentative List consists of properties that appear to qualify for World Heritage status and which may be considered for nomination by the United States to the World Heritage List. The new U.S. Tentative List was transmitted to the UNESCO World Heritage Centre on January 24, 2008.

The preparation of the Tentative List provided multiple opportunities for the public to comment on which sites to include, as part of a process that also included recommendations by the U.S. National Commission for UNESCO, a Federal Advisory Commission to the U.S. Department of State.

The United States is now considering whether to nominate any of the properties on the Tentative List to the World Heritage List. The U.S. is considering proposing two properties, the Papahanaumokuakea Marine National Monument, Hawaii, and Mount Vernon, Virginia, as the initial U.S. sites to be drawn from the new Tentative List for nomination to the World Heritage List. The Department will consider both public comments received during this comment period and the advice of the Federal Interagency Panel for World Heritage in making a final decision on the initial U.S. World Heritage nominations, if any.

DATES: Comments upon whether to nominate any of the properties on the new Tentative List, including Papahanaumokuakea Marine National Monument and Mount Vernon, will be accepted on or before fifteen days from the date of publication of this notice in the Federal Register.

If selected, the owners of sites proposed for nomination will be responsible, in cooperation with the National Park Service, for preparing the draft nomination in the nomination Format required by the World Heritage Committee and for gathering documentation in support of it. Any such nominations must be received from the preparers by the National Park Service in substantially complete draft form by July 1, 2008. Such draft nominations will be reviewed, amended if necessary, and provided to the World Heritage Centre for initial review no later than September 30, 2008. The Centre is to provide comments by November 14, 2008, with final submittal to the World Heritage Centre by the Department of the Interior through the Department of State required by January 30, 2009. Protective measures must be in place before a property may be nominated. If a nomination cannot be completed in accordance with this timeline, work may continue into the following year for subsequent submission to UNESCO.

ADDRESSES: Please provide all comments directly to Jonathan Putnam, Office of International Affairs, National Park Service, 1201 Eye Street, NW., (0050) Washington, DC 20005 or by E-mail to: jonathan_putnam@nps.gov. Phone: 202-354-1809. Fax 202-371-1446. All comments will be a matter of public record. Before including your address, phone number, e-mail address, or other personal identifying information in your comment, you should be aware that your entire comment—including your personal identifying information—may be made publicly available at any time. While you can ask us in your comment to withhold your personal identifying information from public review, we cannot guarantee that we will be able to do so.

NPS specifically requests comments on whether to nominate any of the properties on the new Tentative List, and specifically whether to nominate Papahanaumokuakea Marine National Monument and/or Mount Vernon. Comments should address the qualifications of the properties proposed for nomination by the United States to the World Heritage List. In formulating your comments, you may wish to take account of the evaluations in the final U.S. Tentative List report referenced below. The World Heritage nomination criteria can be found on the National Park Service Office of International Affairs Web site http://www.nps.gov/oia.

All public comments are welcomed and will be summarized and provided to the Department of the Interior officials who will select the initial U.S. World Heritage nominations.

FOR FURTHER INFORMATION CONTACT: Jonathan Putnam, 202-354-1809 or April Brooks, 202-354-1808. General information about U.S. participation in the World Heritage Program and the process used to develop the Tentative List is posted on the Office of International Affairs Web site at: http://www.nps.gov/oia/topics/worldheritage/tentativelist.htm.

Only the 14 properties included in U.S. Tentative List are eligible to be considered for nomination by the United States to the World Heritage List. Brief descriptions of them appear in a copy of the press release announcing the Tentative List, which is linked to the site just noted. The U.S. Tentative List report on the 14 sites in the form submitted to the UNESCO World Heritage Centre on January 24, 2008, appears in its entirety on the Internet at http://www.nps.gov/oia/topics/worldheritage/tentativelist/WHTentList.doc. (For additional information, the earlier National Park Service staff report, including summaries of information on all 35 sites for which Applications were filed, is posted on the Internet at http://www.nps.gov/oia/TLEssayFinal.pdf. If you would like to review the full Applications submitted to the National Park Service for any candidate sites, please go to http://www.nps.gov/oia/NewWebpages/ApplicantsTentativeList.html.)

To request a paper copy of the new U.S. Tentative List report submitted to the UNESCO World Heritage Centre, please contact April Brooks, Office of International Affairs, National Park Service, 1201 Eye Street, NW., (0050) Washington, DC 20005. E-mail: april_brooks@nps.gov .

For the World Heritage nomination Format, see the World Heritage Centre Web site at http://whc.unesco.org/en/nominationform.

SUPPLEMENTARY INFORMATION:

Background

The World Heritage List is an international list of cultural and natural properties nominated by the signatories to the World Heritage Convention (1972). The United States was the prime architect of the Convention, an international treaty for the preservation of natural and cultural heritage sites of global significance proposed by President Richard M. Nixon in 1972, and the U.S. was the first nation to ratify it. In 2005, the United States was elected to a fourth term on the World Heritage Committee and will serve until 2009. There are 851 sites in 140 of the 184 signatory countries. Currently there are 20 World Heritage Sites in the United States already listed.

U.S. participation and the roles of the Department of the Interior and the National Park Service are authorized by Title IV of the Historic Preservation Act Amendments of 1980 and conducted in accordance with 36 CFR 73—World Heritage Convention.

The National Park Service serves as the principal technical agency for the U.S. Government to the Convention and manages all or parts of 17 of the 20 U.S. World Heritage Sites currently listed, including Yellowstone National Park, the Everglades, and the Statue of Liberty.

A Tentative List is a national list of natural and cultural properties appearing to meet the World Heritage Committee eligibility criteria for nomination to the World Heritage List. It is a list of candidate sites which a country intends to consider for nomination within a given time period. A country cannot nominate a property unless it has been on its Tentative List for a minimum of a year. Countries also are limited to nominating no more than two sites in any given year.

Neither inclusion in the Tentative List nor inscription as a World Heritage Site imposes legal restrictions on owners or neighbors of sites, nor does it give the United Nations any management authority or ownership rights in U.S. World Heritage Sites, which continue to be fully subject to U.S. law. Inclusion in the Tentative List merely indicates that the property may be further examined for possible World Heritage nomination in the future.

The World Heritage Committee's Operational Guidelines ask participating nations to provide Tentative Lists, which aid in evaluating properties for the World Heritage List on a comparative international basis and help the Committee to schedule its work over the long term. The Guidelines recommend that a nation review its Tentative List at least once every decade. The new Tentative List replaces the original U.S. Tentative List (formerly Indicative Inventory) that was published by NPS in the Federal Register on May 6, 1982 (FR 47, 88: 19648-19655) and amended with one additional site in 1983 and one other in 1990.

In order to guide the U.S. World Heritage Program effectively and in a timely manner, NPS prepared and submitted (through the Secretary of the Interior and the Secretary of State) to the World Heritage Centre of UNESCO on January 24, 2008, the previously referenced Tentative List of properties that appear to meet the criteria for nomination and are eligible for nomination during the next decade (2009-2019), starting on or after January 30, 2009. Submittal of nominations must be made no later than that date for the World Heritage Committee's consideration in 2010.

In order to be included, a proposed site had to meet several U.S. prerequisites in addition to appearing to meet the stringent World Heritage criteria of international importance.

The U.S. prerequisites included the written agreement of all property owners to the nomination of their property, general support from stakeholders, including elected officials, and a prior official determination that the property was nationally important (such as by designation as a National Historic or National Natural Landmark).

Process for Developing the U.S. World Heritage Tentative List

The Tentative List was developed using an Application approved by the Office of Management and Budget (OMB) on August 29, 2006 (OMB Control No. 1024-0250), pursuant to a 30-Day Notice of Request for Clearance of Collection of Information to the Office of Management and Budget published by NPS in the Federal Register on July 27, 2006 (FR 71, 144:42664-42665).

The National Park Service Office of International Affairs provided the Application form in August 2006 for voluntary applications to a new U.S. World Heritage Tentative List by governmental and private property owners. It was intended that preparers use the Application to demonstrate that the property meets the criteria established by the World Heritage Committee for inclusion in the World Heritage List and other requirements, including those of U.S. domestic law (16 U.S.C. 470 a-1, a-2, d) and the program regulations (36 CFR 73-World Heritage Convention).

Thirty-seven (37) Applications were received by the April 1, 2007 deadline. Two were subsequently withdrawn. The National Park Service made recommendations based on staff review of the Applications by the Office of International Affairs, in consultation with National Park Service subject matter experts and external reviewers for cultural and natural resources who are knowledgeable about the World Heritage Committee's policies, practices and precedents. Additional correspondence and/or Addenda containing revised or expanded material was received from most applicants in response to written reviews that were provided to them; all of this material was carefully considered.

Results of Review

NPS staff recommendations were provided to the World Heritage Tentative List Subcommittee of the U.S. National Commission for UNESCO for review.

The Office of International Affairs recommended 19 sites for a new Tentative List. These included three natural properties, fifteen cultural properties (two of which are extensions to currently inscribed World Heritage Sites), and one mixed natural and cultural property. The staff review recommended four additional sites for future consideration.

Review by U.S. National Commission for UNESCO

The staff recommendations for the draft Tentative List were reviewed by a subcommittee of the U.S. National Commission for UNESCO—which included Federal agency representatives drawn from the Federal Interagency Panel on World Heritage—on September 27, 2007. The subcommittee presented its recommendations to the full Commission in a conference call on October 4, 2007, in which the public participated. The recommendations by the National Commission, including those which differ from the NPS staff recommendations were published for comment in the Federal Register on October 31, 2007 (FR 72, 210: 61664-61666) and also posted on the National Commission's Web site where they may be consulted at: http://www.state.gov/p/io/unesco.

Nearly all the comments received from Federal, State, and local government executive and legislative officials, and other stakeholders supported the inclusion of sites in their States and communities.

Final Approval and Transmittal to the World Heritage Centre

With the benefit of the National Commission's advice and the additional public comments, the final Tentative List was approved by the Secretary of the Interior, and transmitted to the World Heritage Centre by the Department of State on January 24, 2008. This submittal complied with the required timeline for Tentative List submittal at least one year prior to the final submittal of any nominations of sites from the Tentative List by January 30, 2009.

Conclusion

Because UNESCO asks countries to wait a year before submitting nominations from their tentative lists, the first time that any U.S. World Heritage nominations drawn from the new List can go forward will be at the beginning of 2009 with consideration by the World Heritage Committee no earlier than the summer of 2010. The Committee, composed of representatives of 21 nations elected as the governing body of the World Heritage Convention, makes the final decisions on which nominations to accept on the World Heritage List at its annual meeting each summer.

U.S. World Heritage Tentative List 2008

Cultural Sites (9)

Civil Rights Movement Sites, Alabama

Dexter Avenue King Memorial Baptist Church, Montgomery.

Bethel Baptist Church, Birmingham.

16th Street Baptist Church, Birmingham.

Dayton Aviation Sites, Ohio

Dayton Aviation Heritage National Historical Park, including:

—Huffman Prairie.

—Wright-Patterson Air Force Base.

—Wright Cycle Company and Wright & Wright Printing, Dayton.

—Wright Hall (including Wright Flyer III), Dayton.

Hawthorn Hill, Dayton.

Hopewell Ceremonial Earthworks, Ohio

Fort Ancient State Memorial, Warren County.

Hopewell Culture National Historical Park, near Chillicothe.

Newark Earthworks State Historic Site, Newark and Heath, including:

—Wright Earthworks.

—The Octagon Earthworks.

—Great Circle Earthworks.

Jefferson (Thomas) Buildings, Virginia

Poplar Forest, Bedford County.

Virginia State Capitol, Richmond.

(Proposed jointly as an extension to the World Heritage listing of Monticello and the University of Virginia Historic District.)

Mount Vernon, Virginia

Poverty Point National Monument and State Historic Site, Louisiana

San Antonio Franciscan Missions, Texas

Mission San Antonio de Valero (The Alamo).

San Antonio Missions National Historical Park, including:

—Mission Concepcion.

—Mission San Jose.

—Mission San Juan.

—Mission Espada (including Rancho de las Cabras).

Serpent Mound, Ohio

Wright (Frank Lloyd) Buildings

Taliesin West, Scottsdale, Arizona.

Hollyhock House, Los Angeles, California.

Marin County Civic Center, San Rafael, California.

Frederick C. Robie House, Chicago, Illinois.

Unity Temple, Oak Park, Illinois.

Solomon R. Guggenheim Museum, New York, New York.

Price Tower, Bartlesville, Oklahoma.

Fallingwater, Mill Run, Pennsylvania.

S. C. Johnson and Son, Inc., Administration Building and Research.

Tower, Racine, Wisconsin.

Taliesin, Spring Green, Wisconsin.

Mixed Natural and Cultural Site (1)

Papahanaumokuakea Marine National Monument, Hawaii

Natural Sites (4)

Fagatele Bay National Marine Sanctuary, American Samoa

Okefenokee National Wildlife Refuge, Georgia

Petrified Forest National Park, Arizona

White Sands National Monument, New Mexico

(Authority: 16 U.S.C. 470 a-1, a-2, d; 36 CFR 73)

Dated: March 6, 2008.
Lyle Laverty,
Assistant Secretary for Fish and Wildlife and Parks.

[FR Doc. E8-5499 Filed 3-18-08; 8:45 am]

BILLING CODE 4312-52-P